DEPARTMENT OF TRANSPORTATION

Federal Highway Administration

Notice to Rescind Notice of Intent To Prepare an Environmental Impact Statement: Macon County, MO

AGENCY: Federal Highway Administration (FHWA), DOT.

ACTION: Rescind notice of intent to prepare an environmental impact statement.

SUMMARY: The FHWA is issuing this notice to advise the public that we are rescinding the notice of intent (NOI) to prepare an environmental impact statement (EIS) for improvements that were proposed to the transportation system in Macon County, Missouri.

FOR FURTHER INFORMATION CONTACT: Donald L. Neumann, Programs Engineer, FHWA Division Office, 209 Adams Street, Jefferson City, MO 65101; Telephone (573) 636-7104 or Mr. Dave Nichols, Director of Project Development, Missouri Department of Transportation, PO Box 270, Jefferson City, MO 65102, Telephone: (573) 751-4586.

SUPPLEMENTARY INFORMATION: The FHWA, in cooperation with the Missouri Department of Transportation (MoDOT), is rescinding the NOI to prepare an EIS for a project that has been proposed to improve the transportation system in Macon County, Missouri. The NOI is being rescinded because FHWA and MoDOT have determined that the project will have no significant impacts and is not controversial so an environmental assessment will be appropriate for this project.

(Catalog of Federal Domestic Assistance Program Number 20.205, Highway Planning and Construction. The regulations implementing Executive Order 12372 regarding intergovernmental consultation on Federal programs and activities apply to this program.)

Issued on: March 1, 2002.
Donald L. Neumann,
Programs Engineer, Jefferson City.

[FR Doc. 02-6501 Filed 3-18-02; 8:45 am]

BILLING CODE 4910-22-M